NATIONAL AERONAUTICS AND SPACE ADMINISTRATION

[Notice 01-095]

Notice of Prospective Patent License

AGENCY: National Aeronautics and Space Administration.

ACTION: Notice of prospective patent license.

SUMMARY: NASA hereby gives notice that Ovidium, Inc., a Delaware corporation, has applied for a partially exclusive license to practice the inventions described and claimed in U.S. Patent No. 5,416,618, entitled “Full Complex Modulation Using Two One-Parameter Spatial Light Modulators,” U.S. Patent No. 5,768,242, entitled “Apparatus and Method For Focusing A Light Beam in A Three-Dimensional Recording Medium By A Dynamic Holographic Device,” U.S. Patent No. 5,859,728, entitled “Method and Apparatus for Improved Spatial Light Modulation,” U.S. Patent No. 6,055,086 entitled “Method and Apparatus for Improved Spatial Light Modulation,” and NASA Case No. MSC-23320-1, entitled “Spatial Light Modulators for Full Cross-Connections in Optical Networks,” which are assigned to the United States of America as represented by the Administrator of the National Aeronautics and Space Administration. Written objections to the prospective grant of a license should be sent to Johnson Space Center.

DATES: Responses to this notice must be received by September 12, 2001.

FOR FURTHER INFORMATION CONTACT: James Cate, Patent Attorney, NASA Johnson Space Center, Mail Stop HA, Houston, TX 77058-8452; telephone (281) 483-1001.

Dated: August 1, 2001.
Edward A. Frankle,
General Counsel.

[FR Doc. 01-20225 Filed 8-10-01; 8:45 am]

BILLING CODE 7510-01-P